DEPARTMENT OF DEFENSE

Department of the Army

Availability for Non-Exclusive or Partially Exclusive Licensing of a U.S. Patent Application

AGENCY: Department of the Army, DoD.

ACTION: Notice.

SUMMARY: Announcement is made of the availability for licensing of the invention set forth in U.S. Patent 7,632,659, which issued on December 15, 2009, entitled “Use of Shigella Invaplex to Transport Functional Proteins and Transcriptionally Active Nucleic Acids Across Mammalian Cell Membranes In Vitro and In Vivo,” and U.S. Patent Application Serial No. 12/563,794, entitled “Use of Shigella Invaplex to Transport Functional Proteins and Transcriptionally Active Nucleic Acids Across Mammalian Cell Membranes In Vitro and In Vivo,” filed September 21, 2009. U.S. Patent Application Serial No. 12/563,794 is a continuation application of U.S. Patent 7,632,659. Foreign rights are also available for licensing (PCT/US2004/039100). The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The inventions relate to the use of Invaplex to transport materials, including functional proteins and biologically active nucleic acids, across eukaryotic cell membranes.

Brenda S. Bowen,
Army Federal Register Liaison Officer.

[FR Doc. 2010-16889 Filed 7-9-10; 8:45 am]

BILLING CODE 3710-08-P